NUCLEAR REGULATORY COMMISSION

[NRC-2013-0037]

Tennessee Valley Authority; Notice of Receipt and Availability of Application for Renewal of Sequoyah Nuclear Plant, Units 1 and 2 Facility Operating License Nos. DPR-77 and DPR-79 for an Additional 20-Year Period

The U.S. Nuclear Regulatory Commission (NRC) has received an application, dated January 7, 2013, from Tennessee Valley Authority, filed pursuant to Section 103 of the Atomic Energy Act of 1954, as amended, and part 54 of Title 10 of the Code of Federal Regulations (10 CFR), to renew the operating licenses for the Sequoyah Nuclear Plant (SQN), Units 1 and 2. Renewal of the licenses would authorize the applicant to operate each facility for an additional 20-year period beyond the period specified in the respective current operating licenses. The current operating license for SQN, Unit 1 (DPR-77), expires on September 17, 2020. The current operating license for SQN, Unit 2 (DPR-79), expires on September 15, 2021. Both units are pressurized-water reactors designed by Westinghouse, and are located in Soddy-Daisy, Tennessee. The acceptability of the tendered application for docketing, and other matters, including an opportunity to request a hearing, will be the subject of subsequent Federal Register notices.

Copies of the application are available to the public at the NRC's Public Document Room (PDR), located at One White Flint North, 11555 Rockville Pike, Rockville, Maryland 20852, or through the internet from the NRC's Agencywide Documents Access and Management System (ADAMS) Public Electronic Reading Room under Accession Number ML130240007. The ADAMS Public Electronic Reading Room is accessible from the NRC Web site at http://www.nrc.gov/reading-rm/adams.html. In addition, the application is available at http://www.nrc.gov/reactors/operating/licensing/renewal/applications.html. Persons who do not have access to the internet or who encounter problems in accessing the documents located in ADAMS should contact the NRC's PDR reference staff at 1-800-397-4209, extension 4737, or by email to pdr.resource@nrc.gov.

A copy of the license renewal application for SQN, Units 1 and 2, will also be available to local residents near the site at the Chattanooga-Hamilton County Library—Northgate Branch, 520 Northgate Mall, Chattanooga, Tennessee 37415, the Chattanooga-Hamilton County Library—Downtown Branch, 1001 Broad St., Chattanooga, Tennessee 37402, and the Signal Mountain Library, 1114 James Blvd., Signal Mountain, Tennessee 37377.

Dated at Rockville, Maryland, this 8th day of February, 2013.
For The Nuclear Regulatory Commission.
John W. Lubinski,
Director, Division of License Renewal, Office of Nuclear Reactor Regulation.

[FR Doc. 2013-04113 Filed 2-21-13; 8:45 am]

BILLING CODE 7590-01-P